DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

AGENCY: National Oceanic and Atmospheric Administration (NOAA).

Title: Washington and Oregon Charter Vessel Survey.

OMB Control Number: 0648-xxxx.

Form Number(s): None.

Type of Request: Regular (request for a new information collection).

Number of Respondents: 320.

Average Hours per Response: Initial telephone screen: 2 minutes; follow-up detailed survey: 22 minutes.

Burden Hours: 64.

Needs and Uses: This request is for a new information collection.

The Northwest Fisheries Science Center will conduct a cost and earnings survey of active marine charter fishing vessel companies in Washington and Oregon. The data collected will be used by the National Marine Fisheries Service (NMFS) to address statutory and regulatory mandates to determine the quantity and distribution of net benefits derived from living marine resources as well as to predict the economic impacts from proposed management options on charter fishing businesses, shore side industries, and fishing communities. In particular, these economic data collection programs contribute to legally mandated analyses required under the Magnuson-Stevens Fishery Conservation and Management Act (MFCMS), the National Environmental Policy Act (NEPA), the Regulatory Flexibility Act (RFA), and Executive Order 12866 (E.O. 12866).

Affected Public: Business or other for-profit organizations.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 22, 2018.
Sarah Brabson,
NOAA PRA Clearance Officer.

[FR Doc. 2018-13810 Filed 6-26-18; 8:45 am]

BILLING CODE 3510-22-P